SECURITIES AND EXCHANGE COMMISSION

[File No. 500-1]

Bioject Medical Technologies, Inc., Black Castle Developments Holdings, Inc. (n/k/a ingXabo Corporation), Catalyst Resource Group, Inc., SSI International, Ltd., Strike Axe, Inc., and Viper Powersports, Inc.; Order of Suspension of Trading

December 22, 2015.

It appears to the Securities and Exchange Commission (“Commission”) that there is a lack of current and accurate information concerning the securities of Bioject Medical Technologies, Inc. (“BJCT ¹”) (CIK No. 810084), an Oregon corporation located in Tigard, Oregon with a class of securities registered with the Commission pursuant to Exchange Act Section 12(g) because it is delinquent in its periodic filings with the Commission, having not filed any periodic reports since it filed a Form 10-Q for the period ended September 30, 2011. On April 28, 2015, the Commission's Division of Corporation Finance (“Corporation Finance”) sent a delinquency letter to BJCT requesting compliance with its periodic filing requirements but BJCT did not receive the delinquency letter due to its failure to maintain a valid address on file with the Commission as required by Commission rules (Rule 301 of Regulation S-T, 17 CFR 232.301 and Section 5.4 of EDGAR Filer Manual). As of December 9, 2015, the common stock of BJCT was quoted on OTC Link operated by OTC Markets Group Inc. (formerly “Pink Sheets”) (“OTC Link”), had ten market makers, and was eligible for the “piggyback” exception of Exchange Act Rule 15c2-11(f)(3).

¹ The short form of each issuer's name is also its stock symbol.

It appears to the Commission that there is a lack of current and accurate information concerning the securities of Black Castle Developments Holdings, Inc. (n/k/a ingXabo Corporation) (“BCDH”) (CIK No. 1072971), a Nevada corporation located in Fresno, California with a class of securities registered with the Commission pursuant to Exchange Act Section 12(g) because it is delinquent in its periodic filings with the Commission, having not filed any periodic reports since it filed a Form 10-12G on April 16, 2012. On February 19, 2015, Corporation Finance sent a delinquency letter to BCDH requesting compliance with its periodic filing requirements but BCDH did not receive the delinquency letter due to its failure to maintain a valid address on file with the Commission as required by Commission rules (Rule 301 of Regulation S-T, 17 CFR 232.301 and Section 5.4 of EDGAR Filer Manual). As of December 9, 2015, the common stock of BCDH was quoted on OTC Link, had seven market makers, and was eligible for the “piggyback” exception of Exchange Act Rule 15c2-11(f)(3).

It appears to the Commission that there is a lack of current and accurate information concerning the securities of Catalyst Resource Group, Inc. (“CATA”) (CIK No. 106311), a Florida corporation located in Huntington Beach, California with a class of securities registered with the Commission pursuant to Exchange Act Section 12(g) because it is delinquent in its periodic filings with the Commission, having not filed any periodic reports since it filed a Form 10-Q for the period ended June 30, 2012. On February 19, 2015, Corporation Finance sent a delinquency letter to CATA requesting compliance with its periodic filing requirements but CATA did not receive the delinquency letter due to its failure to maintain a valid address on file with the Commission as required by Commission rules (Rule 301 of Regulation S-T, 17 CFR 232.301 and Section 5.4 of EDGAR Filer Manual). As of December 9, 2015, the common stock of CATA was quoted on OTC Link, had seven market makers, and was eligible for the “piggyback” exception of Exchange Act Rule 15c2-11(f)(3).

It appears to the Commission that there is a lack of current and accurate information concerning the securities of SSI International, Ltd. (“SSIT”) (CIK No. 1455982), a revoked Nevada corporation located in Reno, Nevada with a class of securities registered with the Commission pursuant to Exchange Act Section 12(g) because it is delinquent in its periodic filings with the Commission, having not filed any periodic reports since it filed a Form 10-K for the period ended October 31, 2011. On February 19, 2015, Corporation Finance sent a delinquency letter to SSIT requesting compliance with its periodic filing requirements but SSIT did not receive the delinquency letter due to its failure to maintain a valid address on file with the Commission as required by Commission rules (Rule 301 of Regulation S-T, 17 CFR 232.301 and Section 5.4 of EDGAR Filer Manual). As of December 9, 2015, the common stock of SSIT was quoted on OTC Link, had three market makers, and was eligible for the “piggyback” exception of Exchange Act Rule 15c2-11(f)(3).

It appears to the Commission that there is a lack of current and accurate information concerning the securities of Strike Axe, Inc. (“SKAX”) (CIK No. 1438945), a void Delaware corporation located in Lombard, Illinois with a class of securities registered with the Commission pursuant to Exchange Act Section 12(g) because it is delinquent in its periodic filings with the Commission, having not filed any periodic reports since it filed a Form 10-Q for the period ended August 31, 2012. On April 28, 2015, Corporation Finance sent a delinquency letter to SKAX requesting compliance with its periodic filing requirements but SKAX did not receive the delinquency letter due to its failure to maintain a valid address on file with the Commission as required by Commission rules (Rule 301 of Regulation S-T, 17 CFR 232.301 and Section 5.4 of EDGAR Filer Manual). As of December 9, 2015, the common stock of SKAX was quoted on OTC Link, had four market makers, and was eligible for the “piggyback” exception of Exchange Act Rule 15c2-11(f)(3).

It appears to the Commission that there is a lack of current and accurate information concerning the securities of Viper Powersports, Inc. (“VPWI”) (CIK No. 1337213), a defaulted Nevada corporation located in Auburn, Alabama with a class of securities registered with the Commission pursuant to Exchange Act Section 12(g) because it is delinquent in its periodic filings with the Commission, having not filed any periodic reports since it filed a Form 10-K for the period ended December 31, 2012. On April 22, 2015, Corporation Finance sent a delinquency letter to VPWI requesting compliance with its periodic filing requirements but VPWI did not receive the delinquency letter due to its failure to maintain a valid address on file with the Commission as required by Commission rules (Rule 301 of Regulation S-T, 17 CFR 232.301 and Section 5.4 of EDGAR Filer Manual). As of December 9, 2015, the common stock of VPWI was quoted on OTC Link, had eight market makers, and was eligible for the “piggyback” exception of Exchange Act Rule 15c2-11(f)(3).

The Commission is of the opinion that the public interest and the protection of investors require a suspension of trading in the securities of the above-listed companies. Therefore, it is ordered, pursuant to Section 12(k) of the Securities Exchange Act of 1934, that trading in the securities of the above-listed companies is suspended for the period from 9:30 a.m. EST on December 22, 2015, through 11:59 p.m. EST on January 6, 2016.

By the Commission.
Jill M. Peterson,
Assistant Secretary.

[FR Doc. 2015-32575 Filed 12-22-15; 4:15 pm]

BILLING CODE P